DEPARTMENT OF THE INTERIOR

Bureau of Land Management

[IDI-29793]

Notice of Proposed Withdrawal Extension and Opportunity for Public Meeting for the Grays Lake National Wildlife Refuge Headquarters; Idaho

AGENCY: Bureau of Land Management, Interior.

ACTION: Notice.

SUMMARY: The Department of the Interior proposes to extend the duration of Public Land Order (PLO) No. 7130 for an additional 20-year term. PLO No. 7130 transferred jurisdiction of 37.5 acres of public land withdrawn from settlement, sale, location, or entry under the public land laws, including the United States mining laws, from the U.S. Forest Service (USFS) to the U.S. Fish and Wildlife Service (FWS) to protect the Grays Lake National Wildlife Refuge Headquarters in Bonneville County. PLO No. 7130 will expire on March 30, 2015, unless extended. This notice gives an opportunity for the public to comment and request a public meeting on the proposed withdrawal extension.

DATES: Comments and requests for a public meeting must be received by October 23, 2013.

ADDRESSES: Comments and meeting requests should be sent to the U.S. Fish and Wildlife Service, Realty Branch, 911 NE 11th Avenue, Portland, Oregon 97232.

FOR FURTHER INFORMATION CONTACT: Laura Underhill, Bureau of Land Management (BLM) Idaho State Office 208-373-3866 or Wayne Hill, Realty Branch Chief, U.S. Fish and Wildlife Service, 503-231-2236. Persons who use a telecommunications device for the deaf (TDD) may call the Federal Information Relay Service (FIRS) at 1-800-877-8339 to contact either of the above individuals. The FIRS is available 24 hours a day, 7 days a week, to leave a message or question with either of the above individuals. You will receive a reply during normal business hours.

SUPPLEMENTARY INFORMATION: The withdrawal created by PLO No. 7130 (60 FR 16585 (1995)), which transferred jurisdiction of 37.5 acres of public land withdrawn for use by the USFS to the FWS to protect the Grays Lake National Wildlife Refuge Headquarters, will expire on March 30, 2015, unless extended. PLO No. 7130 is incorporated herein by reference. The FWS filed a petition/application to extend PLO No. 7130 for an additional 20-year term. The PLO withdrew 37.5 acres of public land from settlement, sale, location, and entry under the public land laws, including the United States mining laws. The land has been and remains open to mineral leasing.

The purpose of the proposed withdrawal extension is to continue to protect the Grays Lake National Wildlife Refuge Headquarters capital investments and will cover the same area currently withdrawn.

The use of a right-of-way, interagency agreement, or cooperative agreement would not adequately constrain nondiscretionary uses which could result in permanent loss of significant values and capital investments.

A water right with a priority date of 1969 is in place for stock water, domestic, fire protection, and administrative purposes. The current owner is listed as FWS.

You may examine records relating to the application by contacting the FWS Realty Branch at the above address or by telephone at 503-231-2236 or Laura Underhill, BLM Idaho State Office, 1387 S. Vinnell Way, Boise, Idaho 83709 or by telephone at 208-373-3866.

For a period until October 23, 2013, all persons who wish to submit comments, suggestions, or objections in connection with the proposed withdrawal extension may present their views in writing to the FWS, at the address noted above. Comments, including names and street addresses of respondents, will be available for public review at the U.S. Fish and Wildlife Services, Realty Branch, 911 NE 11th Avenue, Portland, Oregon 97232 during regular business hours, 7:30 a.m. to 4:30 p.m., Monday through Friday, except Federal holidays.

Before including your address, phone number, email address, or other personal identifying information in your comment, you should be aware that your entire comment—including your personal identifying information—may be made publicly available at any time. While you may ask us in your comment to withhold your personal identifying information from public review, we cannot guarantee that we will be able to do so.

Notice is hereby given that an opportunity for a public meeting is afforded in connection with the proposed withdrawal. All interested persons who desire a public meeting for the purpose of being heard on the proposed withdrawal extension must submit a written request to the FWS Realty Branch Chief at the address indicated above by October 23, 2013. Upon determination by the authorized officer that a public meeting will be held, a notice of the time and place will be published in the Federal Register and a newspaper having a general circulation in the vicinity of the land at least 30 days before the scheduled date of the meeting.

This application will be processed in accordance with the regulations set forth in 43 CFR 2310.

David H. Murphy,
Chief, Branch of Lands, Minerals and Water Rights.

[FR Doc. 2013-17843 Filed 7-24-13; 8:45 am]

BILLING CODE 4310-55-P